DEPARTMENT OF THE INTERIOR

National Park Service

Kaloko-Honokohau National Historical Park Advisory Commission; Notice of Meeting

Notice is hereby given in accordance with the Federal Advisory Committee Act that a meeting of the Na Hoapili O Kaloko Honokohau, Kaloko-Honokohau National Historical Park Advisory Commission will be held on at 9 a.m., June 28, 2002 at Kaloko-Honokohau National Historical Park headquarters, 73-4786 Kanalani St. Suite 14, Kailua-Kona, Hawaii.

The agenda will include Update on the Park Brochure, Proposed Location and Plans for Live-In Cultural/Educational Center, and Proposed Locations for Halau Wa‘a at Kaloko. The meeting is open to the public. Minutes will be recorded for documentation and transcribed for dissemination. Minutes of the meeting will be available to the public after approval of the full Advisory Commission. Transcripts will be available after 30 days of the meeting.

For copies of the minutes, contact Kaloko-Honokohau National Historical Part at (808) 329-6881.

Dated: April 29, 2002.
Lester T. Inafuku,
Acting Superintendent, Kaloko-Honokohau National Historical Park.

[FR Doc. 02-14976 Filed 6-12-02; 8:45 am]

BILLING CODE 4310-70-M